DEPARTMENT OF THE INTERIOR

Bureau of Reclamation

Environmental Water Account, San Francisco Bay/Sacramento-San Joaquin Delta, CA

AGENCY: Bureau of Reclamation/California Department of Water Resources, Interior.

ACTION: Notice of intent to prepare an environmental impact statement/environmental impact report (EIS/EIR).

SUMMARY: Pursuant to the National Environmental Policy Act (NEPA) and the California Environmental Quality Act (CEQA), the Bureau of Reclamation (Reclamation) and the California Department of Water Resources (DWR) intend to prepare an EIS/EIR for implementing the Environmental Water Account (EWA) as described in the Programmatic Record of Decision for the CALFED Bay-Delta Program.

The EWA has been established to provide water for the protection and recovery of fish beyond water available through existing regulatory actions related to State Water Project/Central Valley Project operations. The EWA is a cooperative management program whose purpose is to provide protection to the fish of the Bay-Delta estuary through environmentally beneficial changes in project operations at no uncompensated water cost to the projects' water users. This approach to fish protection requires the acquisition of alternative sources of project water supply, called the “EWA assets,” which will be used to augment streamflows, Delta outflows, to modify exports to provide fishery benefits, and to replace the regular project water supply interrupted by the changes to project operations. The replacement water will compensate for reductions in deliveries relative to existing facilities, project operations and the regulatory baseline that result from EWA actions.

Reclamation will be the lead federal agency; the U.S. Fish and Wildlife Service and National Marine Fisheries Service will be cooperating agencies for the EIS/EIR in accordance with NEPA. DWR will be the lead state agency; the Department of Fish and Game will be a responsible agency for the EIS/EIR in accordance with CEQA. A draft EIS/EIR is expected to be available in December 2001.

DATES: A series of public scoping meetings will be held to solicit public input on alternatives, concerns, and issues to be addressed in the EIS/EIR as follows:

• Thursday, July 19, 10-12 noon, Sacramento, CA.

• Thursday, July 19, 7-9 p.m., Chico, CA.

• Monday, July 23, 7-9 p.m., Oakland, CA.

• Tuesday, July 24, 7-9 p.m., Tracy, CA.

• Wednesday, July 25, 7-9 p.m., Bakersfield, CA.

• Thursday, July 26, 7-9 p.m., Los Angeles, CA.

Written comments on the scope of the EIS/EIR may be mailed to Reclamation at the address below by August 20, 2001.

ADDRESSES: The meeting locations are:

• Sacramento at Best Western Expo Inn, 1413 Howe Avenue.

• Chico at Chico Area Recreation District Community Center, 545 Vallambrosa.

• Oakland at the Federal Building, Room H, 5th Floor, North Tower.

• Tracy at the VFW Hall, 430 West Grant Line Road.

• Bakersfield at the Double Tree Inn, 3100 Camino Del Rio Court, Sierra Room.

• Los Angeles at the Los Angeles Convention Center, 1201 South Figueroa Street, Room 513.

Written comments on the scope of the EIS/EIR should be sent to Ms. Michelle Light, Bureau of Reclamation, 2800 Cottage Way, MP-700, Sacramento, CA 95825.

FOR FURTHER INFORMATION CONTACT: Ms. Light at the above address or by telephone at 916-978-5060 or TDD 1-800-735-2922; or Ms. Delores Brown, Department of Water Resources, 3251 S Street, Sacramento, CA 95816 or by telephone at 916-227-2407.

SUPPLEMENTARY INFORMATION:

Background

The CALFED Bay Delta Program is a long-term comprehensive plan to restore ecological health and improve water management for beneficial uses in the San Francisco Bay/Sacramento-San Joaquin Delta (Bay-Delta) estuary system. The agencies that signed the Record of Decision/Notice of Determination (ROD) for the Final Programmatic Environmental Impact Statement/Environmental Impact Report on August 28, 2000, committed to implement the CALFED Bay Delta Program. The Environmental Water Account (EWA) is one component of the long-term comprehensive plan adopted in the CALFED Bay-Delta Program ROD.

To achieve the program purpose, the long-term plan addresses problems of the Bay-Delta system within each of four resource categories: ecosystem quality, water quality, water supply reliability, and levee system integrity. CALFED agencies identified a need in the ROD for additional fisheries protection measures above and beyond the existing baseline regulatory measures to speed recovery of listed fish species. The establishment of the EWA was a key component of this additional protection.

The EWA is a cooperative management program involving five CALFED agencies that have responsibility for implementing the EWA. The three management agencies, the U.S. Fish and Wildlife Service (USFWS), the National Marine Fisheries Service (NMFS), and the California Department of Fish and Game (DFG), have primary responsibility for determining how to manage the EWA assets to benefit long-term survival of fish species, including those listed under the State and Federal Endangered Species Acts. The two Project Agencies are Reclamation and the Department. The Project Agencies will cooperate with the Management Agencies in administering the EWA, including banking, borrowing, transferring, selling, making operational changes, and arranging for the conveyance of EWA assets.

Current Activities

Following the signing of the ROD in August of 2000, the California Department of Water Resources undertook the initial required acquisitions and one-year transfers. As of June 2001, 294,000 acre-feet had been acquired, of which 281,000 acre-feet was used to protect threatened and endangered fish species. A critique and scientific review of the first year of EWA implementation will be conducted this summer, and the results will be used to help formulate strategies for managing the EWA in subsequent years.

Alternative Measures

The ROD for the CALFED Bay Delta Program described broad actions to be taken as part of a long-term plan to fix the problems in the Delta: ecosystem, water quality, water supply reliability and levee stability. As described above, the EWA is one element of the long-term plan to which the signatory agencies have committed. This EIS/EIR will focus on a project specific evaluation of the EWA including alternative strategies for banking, borrowing, transferring, and using water assets to achieve the EWA.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: June 22, 2001.
Laura Allen,
Acting Regional Environmental Officer.

[FR Doc. 01-16928 Filed 7-5-01; 8:45 am]

BILLING CODE 4310-MN-P